DEPARTMENT OF THE INTERIOR

National Park Service

[NPS-WASO-NAGPRA-NPS0025169; PPWOCRADN0-PCU00RP14.R50000]

Notice of Inventory Completion: La Plata County Historical Society, Durango, CO

AGENCY: National Park Service, Interior.

ACTION: Notice.

SUMMARY: The La Plata County Historical Society has completed an inventory of human remains in consultation with the appropriate Indian Tribes or Native Hawaiian organizations and has determined that there is no cultural affiliation between the human remains and any present-day Indian Tribes or Native Hawaiian organizations. Representatives of any Indian Tribe or Native Hawaiian organization not identified in this notice that wish to request transfer of control of these human remains should submit a written request to the La Plata County Historical Society. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the La Plata County Historical Society at the address in this notice by May 4, 2018.

ADDRESSES: Kathy McKenzie, Board President, La Plata County Historical Society, 3065 W. 2nd Avenue, Durango, CO 81301, telephone (970) 259-2402, email director@animasmuseum.org.

SUPPLEMENTARY INFORMATION: Notice is here given in accordance with the Native American Graves Protection and Repatriation Act (NAGPRA), 25 U.S.C. 3003, of the completion of an inventory of human remains under the control of the La Plata County Historical Society, Durango, CO. The human remains were removed from an unknown location, most likely in southwest Colorado or northwest New Mexico.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the La Plata County Historical Society professional staff in partnership with Dr. Dawn Mulhern, biological anthropologist from Fort Lewis College, and in consultation with representatives of Hopi Tribe of Arizona; Jicarilla Apache Nation, New Mexico; Kewa Pueblo, New Mexico (previously listed as the Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Mountain Ute Tribe (previously listed as the Ute Mountain Tribe of the Ute Mountain Reservation, Colorado, New Mexico and Utah); Ysleta del Sur Pueblo (previously listed as the Ysleta Del Sur Pueblo of Texas); and the Zuni Tribe of the Zuni Reservation, New Mexico.

History and Description of the Remains

Between 1936 and 1968, human remains representing, at minimum, three individuals were removed from an unknown archeological site probably in southwest Colorado or northwest New Mexico. The human remains were likely excavated by avocational archeologist Helen Sloan Daniels from Durango, CO. The two crania and a partial mandible were in a box marked “skulls” and were in the possession of Ms. Daniels they were donated to the La Plata County Historical Society in 1989. Ms. Daniels was known to have collected artifacts and human remains primarily from southwestern Colorado and northwestern New Mexico for research and display purposes beginning in the mid-1930s and continuing into the 1960s. Collection and archival work by the staff at the La Plata County Historical Society failed to find any additional documentation regarding these individuals, and these human remains could not be re-associated with any other human remains in this collection.

Catalog Number 89.30.75 (LPCHS-06) is represented by a mostly complete cranium and mandible of an adult female of Native American ancestry between 20-35 years old. There is no cranial modification, but the sagittal suture exhibits very slight kneeling. Catalog Number 89.30.77(LPCHS-08) is represented by a mostly complete cranium and complete mandible of an adult female of Native American ancestry between 17-20 years old. The occipital and the sphenoid are significantly fragmented; everything else is about 75% complete. The cranium does not exhibit cranial deformation. Catalog number 89.30.79 (LCPCHS-10) is represented by the right half of a mandible with the first and second premolar as well as the first and third molar of an adult of probable Native American ancestry of indeterminate sex between 20-35 years old. No known individuals were identified. No associated funerary objects are present.

Determinations Made by the La Plata County Historical Society

Officials of the La Plata County Historical Society have determined that:

• Pursuant to 25 U.S.C. 3001(9), the human remains described in this notice are Native American based on the collection history and biological analysis.

• Pursuant to 25 U.S.C. 3001(9), the human remains described in this notice represent the physical remains of three individuals of Native American ancestry.

• Pursuant to 25 U.S.C. 3001(2), a relationship of shared group identity cannot be reasonably traced between the Native American human remains and any present-day Indian Tribe.

• Treaties, Acts of Congress, or Executive Orders indicate that the land from which the Native American human remains were removed is the aboriginal land of the Hopi Tribe of Arizona; Jicarilla Apache Nation, New Mexico; Kewa Pueblo, New Mexico (previously listed as the Pueblo of Santo Domingo); Navajo Nation, Arizona, New Mexico and Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Indian Tribe of the Uintah and Ouray Reservation, Utah; Ute Mountain Ute Tribe (previously listed as the Ute Mountain Tribe of the Ute Mountain Reservation), Colorado, New Mexico, and Utah; Ysleta del Sur Pueblo (previously listed as the Ysleta Del Sur Pueblo of Texas); and the Zuni Tribe of the Zuni Reservation, New Mexico, hereafter referred to as “The Tribes.”

• Pursuant to 43 CFR 10.11(c)(1), the disposition of the human remains may be The Tribes.

Additional Requestors and Disposition

Representatives of any Indian Tribe or Native Hawaiian organization not identified in this notice that wish to request transfer of control of these human remains should submit a written request with information in support of the request to Kathy McKenzie, Board President, La Plata County Historical Society, 3065 W 2nd Avenue, Durango, CO 81301, telephone (970) 259-2402, email director@animasmuseum.org, by May 4, 2018. After that date, if no additional requestors have come forward, transfer of control of the human remains to The Tribes may proceed.

The La Plata County Historical Society is responsible for notifying The Tribes that this notice has been published.

Dated: March 5, 2018.
Melanie O'Brien,
Manager, National NAGPRA Program.

[FR Doc. 2018-06833 Filed 4-3-18; 8:45 am]

BILLING CODE 4312-52-P